DEPARTMENT OF EDUCATION

Highly Qualified Teachers Clearance; Extension of Public Comment Period; Correction

AGENCY: Department of Education.

ACTION: Correction Notice.

SUMMARY: On September 12, 2013, the U.S. Department of Education published a 60-day comment period notice in the Federal Register (Page 56222, Column 1) seeking public comment for an information collection entitled, “Highly Qualified Teachers Clearance,” ED-2013-ICCD-0121. The comment period for this information collection request has been extended to November 18, 2013 due to technical issues the public experienced in posting comments. This extension will allow the public sufficient time to submit their comments.

The Acting Director, Information Collection Clearance Division, Privacy, Information and Records Management Services, Office of Management, hereby issues a correction notice as required by the Paperwork Reduction Act of 1995.

Dated: November 6, 2013.
Stephanie Valentine,
Acting Director, Information Collection Clearance Division, Privacy, Information and Records Management Services, Office of Management.

[FR Doc. 2013-27008 Filed 11-8-13; 8:45 am]

BILLING CODE 4000-01-P